FEDERAL COMMUNICATIONS COMMISSION

[CC Docket No. 96-45; DA 07-1239]

Wireline Competition Bureau Seeks Additional Comment on Promoting Deployment and Subscribership in Underserved Areas, Including “Near Reservation” Areas

AGENCY: Federal Communications Commission.

ACTION: Notice; solicitation of comments.

SUMMARY: In this document, the Wireline Competition Bureau (Bureau) seeks additional comment on issues raised in the above docket related to what constitutes a “near reservation” area for federal Lifeline and Link-Up support purposes.

DATES: Comments are due on or before August 6, 2007. Reply comments are due on or before August 20, 2007.

ADDRESSES: All filings must be addressed to the Commission's Secretary, Marlene H. Dortch, Office of the Secretary, Federal Communications Commission, Room 5-A266, 445 12th Street, SW., Washington, DC. Comments may be submitted, identified by CC Docket No. 96-45, by any of the following methods:

• Federal eRulemaking Portal: http://www.regulations.gov. Follow the instructions for submitting comments.

• Agency Web Site: http://www.fcc.gov. Follow the instructions for submitting comments on the Electronic Comment Filing System (ECFS) / http://www.fcc.gov/cgb/ecfs/.

• E-mail: To Dana.Walton-Bradford@fcc.gov. Include CC Docket No. 96-45 in the subject line of the message.

• Fax: To the attention of Dana Walton-Bradford at 202-418-1932. Include CC Docket No. 96-45 on the cover page.

• Mail: All filings must be addressed to the Commission's Secretary, Marlene H. Dortch, Office of the Secretary, Federal Communications Commission, Room 5-A266, 445 12th Street, SW., Washington, DC. Parties should send a copy of their filings to Dana Walton-Bradford, Telecommunications Access Policy Division, Wireline Competition Bureau, Federal Communications Commission, Room 5-A321, 445 12th Street, SW., Washington, DC 20554.

• Public inspection, purchase, or download: The full text of the document summarized here is available for inspection and copying during normal business hours in the FCC Reference Center, Portals II, 225 12th Street, SW., Room CY-A257, Washington, DC 20504. The complete text of this document also may be purchased from the Commission's copy contractor, Best Copy and Printing, Inc., 445 12th Street, SW., Room, CY-B402, Washington, DC 20554, and may also be downloaded at: http://www.fcc.gov.

People with Disabilities: To request materials in accessible formats for people with disabilities (braille, large print, electronic files, audio format), send an e-mail to fcc504@fcc.gov or call the Consumer & Governmental Affairs Bureau at 202-418-0530 (voice), 202-418-0432 (tty).

Instructions: All submissions received must include the agency name and docket number. All comments received will be posted without change to http://www.fcc.gov/cgb/ecfs/, including any personal information provided. For detailed instructions on submitting comments and additional information on the rulemaking process, see the “Comment Filing Procedures” heading of the SUPPLEMENTARY INFORMATION section of this document.

FOR FURTHER INFORMATION CONTACT: Gina Spade, Wireline Competition Bureau, Telecommunications Access Policy Division, (202) 418-7400, or Dana Walton-Bradford, Wireline Competition Bureau, Telecommunications Access Policy Division, (202) 418-7400.

SUPPLEMENTARY INFORMATION: This is a summary of the Commission's Public Notice in CC Docket No. 96-45, released March 12, 2007 (DA 07-1239). The full text of this document is available for inspection and copying during normal business hours in the FCC Reference Center, Portals II, 445 12th St. SW., Room CY-A257, Washington, DC 20554. The complete text of this document also may be purchased from the Commission's copy contractor, Best Copy and Printing, Inc., 445 12th Street, SW., Room, CY-B402, Washington, DC 20554. The full text may also be downloaded at: http://www.fcc.gov. 1. By this document, the Bureau seeks to refresh the record on issues raised in the Twelfth Report and Order, 65 FR 47941, August 4, 2000, and Twenty-Fifth Report and Order and Further Notice of Proposed Rulemaking, 68 FR 41936, July 16, 2003, in the above proceeding related to what constitutes a “near reservation” area for federal Lifeline and Link-Up support purposes. Because comments on the issue were filed several years ago, the passage of time and intervening developments have rendered the records developed by those commenters stale. Moreover, some issues raised by commenters may have become moot or irrelevant in light of intervening events. For these reasons, the Bureau requests that parties refresh the record with any new information or arguments they believe to be relevant to deciding the issues still pending. The refreshed record will enable the Commission to undertake appropriate consideration of the issue of how best to provide support through Lifeline and Link-Up to “near reservation” areas.

2. In the Twelfth Report and Order, the Commission adopted a definition of “tribal lands” that included “reservation” and “near reservation” areas, as defined, at that time, in sections 20.1(v) and (r) of the Bureau of Indian Affairs (BIA) regulations. Subsequently, the Commission became aware that the term “near reservation” included wide geographic areas, extending substantially beyond the boundaries of reservations, that do not possess the same characteristics that warranted the targeting of support to reservations. As a result, the Commission issued an Order staying implementation of the enhanced Lifeline and Link-Up rules to the extent that they apply to qualifying low-income consumers located on “near reservation” areas.

3. In the Further Notice accompanying the Tribal Stay Order and Further Notice, 65 FR 58721, October 2, 2000, the Commission sought additional comment on how to extend the enhanced Lifeline and Link-Up measures to qualifying low-income consumers living in areas or communities that are “near reservations.” Specifically, the Commission sought comment on how to define geographic areas that are adjacent to the reservations or are otherwise a part of the reservation's community of interest, in a manner that is consistent with its goal of targeting enhanced Lifeline and Link-Up support to the most underserved segments of the Nation. To the extent that using the BIA definition of “near reservations” to target support as intended in the Twelfth Report and Order was not effective, the Commission sought comment generally on how it might achieve its goal of serving geographically isolated, impoverished areas that are characterized by low subscribership.

4. On May 21, 2003, in the Twenty-Fifth Order on Reconsideration, Report and Order, and Further Notice of Proposed Rulemaking, the Commission again sought comment on potential modifications to its rules regarding availability of enhanced Federal Lifeline and Link-Up assistance to qualifying low-income consumers living “near reservations.” In this follow-up, the Commission noted that few commenters filed in response to the 2000 Tribal Stay Order and Further Notice.

Comment Filing Procedures

5. Pursuant to 1.415 and 1.419 of the Commission's rules, 47 CFR 1.415, 1.419, interested parties may file comments are due on or before August 6, 2007 and reply comments are due on or before August 20, 2007. Comments may be filed using the Commission's Electronic Comment Filing System (ECFS) or by filing paper copies. Comments filed through the ECFS can be sent as an electronic file via the Internet to http://www.fcc.gov/cgb/ecfs/. Generally, only one copy of an electronic submission must be filed. If multiple docket or rulemaking numbers appear in the caption of the proceeding, commenters must transmit one electronic copy of the comments to each docket or rulemaking number referenced in the caption. In completing the transmittal screen, commenters should include their full name, U.S. Postal Service mailing address, and the applicable docket or rulemaking number, in this case, CC Docket No. 96-45. Parties may also submit an electronic comment by Internet e-mail. To get filing instructions for e-mail comments, commenters should send an e-mail to ecfs@fcc.gov, and should include the following words in the body of the message, “get form.” A sample form and directions will be sent in response. Parties who choose to file by paper must file an original and four copies of each filing. If more than one docket or rulemaking number appears in the caption of this proceeding, commenters must submit two additional copies for each additional docket or rulemaking number.

6. Paper filings can be sent by hand or messenger delivery, by commercial overnight courier, or by first-class or overnight U.S. Postal Service mail (although we continue to experience delays in receiving U.S. Postal Service mail). Parties are strongly encouraged to file comments electronically using the Commission's ECFS.

7. The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554.

8. All filings must be addressed to the Commission's Secretary, Marlene H. Dortch, Office of the Secretary, Federal Communications Commission, 445 12th Street, SW., Washington, DC 20554. Parties should also send a copy of their filings to Dana Walton-Bradford, Telecommunications Access Policy Division, Wireline Competition Bureau, Federal Communications Commission, Room 5-A321, 445 12th Street, SW., Washington, DC 20554, or by e-mail to Dana.Walton-Bradford@fcc.gov. Parties shall also serve one copy with the Commission's copy contractor, Best Copy and Printing, Inc. (BCPI), Portals II, 445 12th Street, SW., Room CY-B402, Washington, DC 20554, (202) 488-5300, or via e-mail to fcc@bcpiweb.com.

9. Documents in CC Docket No. 96-45 will be available for public inspection and copying during business hours at the FCC Reference Information Center, Portals II, 445 12th St., SW., Room CY-A257, Washington, DC 20554. The documents may also be purchased from BCPI, telephone (202) 488-5300, facsimile (202) 488-5563, TTY (202) 488-5562, e-mail: fcc@bcpiweb.com.

10. To request materials in accessible formats for people with disabilities (braille, large print, electronic files, audio format), send an e-mail to fcc504@fcc.gov or call the Consumer & Governmental Affairs Bureau at 202-418-0530 (voice), 202-418-0432 (tty).

11. This matter shall be treated as a “permit-but-disclose” proceeding in accordance with the Commission's ex parte rules. Persons making oral ex parte presentations are reminded that memoranda summarizing the presentations must contain summaries of the substance of the presentations and not merely a listing of the subjects discussed. More than a one-or two-sentence description of the views and arguments presented generally is required. Other requirements pertaining to oral and written presentations are set forth in section 1.1206(b) of the Commission's rules.

Federal Communications Commission.
Kirk S. Burgee,
Chief of Staff, Wireline Competition Bureau.

[FR Doc. E7-12862 Filed 7-3-07; 8:45 am]

BILLING CODE 6712-01-P